DEPARTMENT OF COMMERCE

National Oceanic and Atmospheric Administration

RIN 0648-XD70

North Pacific Fishery Management Council; Notice of Plan Team Meetings

AGENCY: National Marine Fisheries Service (NMFS), National Oceanic and Atmospheric Administration (NOAA), Commerce.

ACTION: Meetings.

SUMMARY: The North Pacific Fishery Management Council's Gulf of Alaska (GOA) and Bering Sea/Aleutian Islands (BS/AI) groundfish plan teams will meet in Seattle.

DATES: November 13-16, 2007. The meetings will begin at 9 a.m. on Tuesday, November 13, and continue through Friday November 16.

ADDRESSES: Alaska Fisheries Science Center, 7600 Sand Point Way N.E., Building 4, Observer Training Room (GOA Plan Team) and Traynor Room (BS/AI Plan Team), Seattle, Washington.

Council address: North Pacific Fishery Management Council, 605 W. 4th Ave., Suite 306, Anchorage, AK 99501-2252.

FOR FURTHER INFORMATION CONTACT: Jane DiCosimo or Diana Stram, NPFMC, 907-271-2809.

SUPPLEMENTARY INFORMATION:

Agenda

Principal business is to prepare and review the stock assessments for groundfish fisheries in the BSAI and GOA and recommend catch specifications for 2008/2009. Agenda posted on website at: http://www.fakr.noaa.gov/npfmc/

Special Accommodations

These meetings are physically accessible to people with disabilities. Requests for sign language interpretation or other auxiliary aids should be directed to Gail Bendixen, 907-271-2809, at least 5 working days prior to the meeting date.

Dated: October 29, 2007.
Tracey L. Thompson,
Acting Director, Office of Sustainable Fisheries, National Marine Fisheries Service.

[FR Doc. E7-21543 Filed 11-1-07; 8:45 am]

BILLING CODE 3510-22-S